DEPARTMENT OF COMMERCE

National Oceanic and Atmospheric Administration

[I.D 081403A]

Marine Mammals; File No. 782-1708-00

AGENCY: National Marine Fisheries Service (NMFS), National Oceanic and Atmospheric Administration (NOAA), Commerce.

ACTION: Issuance of permit.

SUMMARY: Notice is hereby given that the National Marine Mammal Laboratory (NMML), National Marine Fisheries Service, NOAA, 7600 Sand Point Way, NE, BIN C15700, Bldg. 1, Seattle, WA 98115-0070 (PI: Dr. Thomas Loughlin) has been issued a permit to take Northern fur seals (Callorhinus ursinus) for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)713-0376; and

Assistant Regional Administrator for Protected Resources, Alaska Region, NMFS, P.O. Box 21668, Juneau, AK 99802-1668; phone (907)586-7235; fax (907)586-7012.

FOR FURTHER INFORMATION CONTACT: Ruth Johnson or Carrie Hubard (301)713-2289.

SUPPLEMENTARY INFORMATION: On June 4, 2003, notice was published in the Federal Register (68 FR 33477) that a request for a scientific research permit to take the species identified above had been submitted by the above-named organization. The requested permit has been issued under the authority of the Marine Mammal Protection Act of 1972, as amended (16 U.S.C. 1361 et seq.), the Regulations Governing the Taking and Importing of Marine Mammals (50 CFR part 216), and the Fur Seal Act of 1966, as amended (16 U.S.C. 1151 et seq.).

The Permit authorizes NMML to take Northern fur seals during scientific research. Seals will be captured, tagged, sampled and incidentally harassed during annual censuses on the Pribilof Islands. All of this work is essential for: (1) monitoring the status and trends of the northern fur seal population, (2) evaluating the condition of animals from each cohort (health and strength of year-class), (3) monitoring the diet, and (4) documenting the movement patterns, foraging behavior, and essential foraging habitat of various age and sex classes of fur seals. The information collected under this permit will be important for assessing the recovery of this depleted species and for evaluating management actions.

Dated: September 3, 2003.
Stephen L. Leathery,
Chief, Permits, Conservation and Education Division, Office of Protected Resources, National Marine Fisheries Service.

[FR Doc. 03-23437 Filed 9-12-03; 8:45 am]

BILLING CODE 3510-22-S